DEPARTMENT OF AGRICULTURE

Rural Utilities Service

Earth Resources Inc.; Notice of Finding of No Significant Impact

AGENCY: Rural Utilities Service, USDA.

ACTION: Notice of finding of no significant impact.

SUMMARY: Notice is hereby given that the Rural Utilities Service (RUS), an agency that administers the U.S. Department of Agriculture's Rural Development Utilities Programs, has made a finding of no significant impact (FONSI) with respect to a request from Earth Resources Inc. for assistance from RUS to finance the construction and operation of a twenty (20) MW power generating station utilizing chicken litter and woody biomass as fuel. The proposal would be constructed on a 140-acre property in Franklin County, Georgia.

FOR FURTHER INFORMATION CONTACT: Stephanie A. Strength, Environmental Protection Specialist, Engineering and Environmental Staff, Stop 1571, 1400 Independence Avenue, SW., Washington, DC 20250-1571, telephone: (202) 720-0468 or e-mail: Stephanie.strength@wdc.usda.gov.

SUPPLEMENTARY INFORMATION: Earth Resources Inc. is proposing to install a twenty (20) MW GE ID # 8287108 and 114939 steam driven turbine generation station and accessory structures, fuel storage and handling areas, traffic circulation and parking areas, waste holding areas, zero discharge system, and stormwater management features. A new 85-foot tall stack will be required. The proposal is located in Franklin County, Georgia. The generating station will be sited on a previously graded five-(5) acre portion of a 139-acre property. The remaining acres will be maintained as natural area buffers.

Alternatives considered by the USDA Rural Development and ERI included: (a) No action, (b) alternate locations, (c) alternate methods to provide service, (d) alternate construction methods and materials, (e) alternate designs, (f) load management and energy conservation options, and (g) alternate generation technologies.

Copies of the Environmental Assessment and FONSI are available at, or can be obtained from, RUS at the address provided herein, or from Mr. Billy Jones (706) 384-4933, at Earth Resources Inc.'s headquarters office located at 774 Highway 320, Carnesville, Georgia 30521.

Dated: March 2, 2007.
James R. Newby,
Assistant Administrator—Electric Program, Rural Development—Utilities Programs.

[FR Doc. E7-4110 Filed 3-7-07; 8:45 am]

BILLING CODE 3410-15-P